ENVIRONMENTAL PROTECTION AGENCY

[OPP-2004-0021; FRL-7343-7]

Tribal Pesticide Program Council; Notice of Public Meeting

AGENCY: Environmental Protection Agency (EPA).

ACTION: Notice.

SUMMARY: The Tribal Pesticide Program Council (TPPC) will hold a 3-day meeting, beginning on March 10, 2004, and ending on March 12, 2004, including a closed session from 1:15 p.m. to 2:15 p.m. on Wednesday and Thursday. This notice announces the location and times for the meeting and sets forth the tentative agenda topics.

DATES: The meeting will be held on Wednesday, March 10, 2004, and Thursday, March 11, 2004, from 9 a.m. to 5 p.m., and Friday, March 12, 2004, from 9 a.m. to noon.

ADDRESSES: The meeting will be held at the Doubletree Hotel-Crystal City, 300 Army-Navy Drive, Arlington, VA 22202.

FOR FURTHER INFORMATION CONTACT: Georgia A. McDuffie, Field and External Affairs Division (7506C), Office of Pesticide Programs, Environmental Protection Agency, 1200 Pennsylvania Ave., NW., Washington, DC 20460-0001; telephone number: (703) 605-0195; fax number: (703) 308-1850; e-mail address: mcduffie.georgia@epa.gov or

Lillian Wilmore, TPPC Facilitator, P.O. Box 470829, Brookline Village, MA 02447-0829; telephone number: (617) 232-5742; fax: (617) 277-1656; e-mail address: naecology@aol.com.

SUPPLEMENTARY INFORMATION:

I. General Information

A. Does this Action Apply to Me?

You may be potentially affected by this action if you are interested in TPPC's information exchange relationship with EPA regarding important issues related to human health, environmental exposure to pesticides, and insight into EPA's decision-making process. All parties are invited and encouraged to attend the meetings and participate as appropriate. Potentially affected entities may include, but are not limited to those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult either person listed under FOR FURTHER INFORMATION CONTACT.

B. How Can I Get Copies of this Document and Other Related Information?

1. Docket. EPA has established an official public docket for this action under docket identification (ID) number OPP-2004-0021. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Tentative Agenda

This unit provides the tentative agenda for the meeting.

1. TPPC state of the Council Report.

2. Presentation and questions and answers by EPA's Office of Pesticide Programs Field and External Affairs Division.

3. Reports from working groups and TPPC participation in other meetings:Forum on State and Tribal Toxic Actions (FOSTTA); Pesticide Program Dialogue Committee; Western Region; Tribal Operations Committee, Tribal Customary & Traditional Lifeways; 7th National Forum on Contaminants in Fish; and other reports or presentations.

4. Tribal caucus (2).

5. EPA's Office of Prevention, Pesticides and Toxic Substances (OPPTS) tribal strategy update.

6. Dialogue and discussion on development of a tribal pesticide program.

7. Discussion on TPPC's participation on the Worker Protection Working Group.

8. National issues on noxious weeds for tribes.

9. Homeland Security--tribal and other farms and pesticide storage issues.

10. Discussion on the involvement of tribes in the Strategic Ag Initiative.

11. Update on the Federal Inspector Credentials Criteria and opportunity for discussion.

12. Tribal West Nile Virus concerns and to include a discussion on National Pollutant Discharge Elimination System (NPDES) issues.

13. Update on Lifeline.

14. Endangered species issues.

15. Half-day training session.

List of Subjects

Environmental protection.

Dated: February 2, 2004.
Jay Ellenberger,
Acting Director, Field and External Affairs Division, Office of Pesticide Programs.

[FR Doc. 04-2815 Filed 2-10-04; 8:45 am]

BILLING CODE 6560-50-S